DEPARTMENT OF VETERANS AFFAIRS

[OMB Control No. 2900-0666]

Agency Information Collection Activity: Information Regarding Apportionment of Beneficiary's Award; Withdrawn

AGENCY: Veterans Benefits Administration, Department of Veterans Affairs.

ACTION: Notice; withdrawal.

SUMMARY: On Wednesday, October 27, 2021, the Veterans Benefits Administration published a notice in the Federal Register announcing an opportunity for public comment on the proposed collection Information Regarding Apportionment of Beneficiary's Award (VA Form 21-0788). This notice was published in error; therefore, this document corrects that error by withdrawing this FR notice, document number 2021-23380.

DATES: As of October 27, 2021, the FR notice published at 86 FR 59449 on Wednesday, October 27, 2021, is withdrawn.

FOR FURTHER INFORMATION CONTACT: Maribel Aponte, Office of Enterprise and Integration, Data Governance Analytics (008), 1717 H Street NW, Washington, DC 20006, (202) 266-4688 or email maribel.aponte@va.gov.

SUPPLEMENTARY INFORMATION: FR Doc. 2021-23380, published on October 27, 2021 (86 FR 59449), is withdrawn by this notice.

By direction of the Secretary.
Maribel Aponte,
VA PRA Clearance Officer, Office of Enterprise and Integration/Data Governance Analytics, Department of Veterans Affairs.

[FR Doc. 2021-23797 Filed 11-1-21; 8:45 am]

BILLING CODE 8320-01-P